PRESIDIO TRUST

Letterman Complex, The Presidio of San Francisco, Notice of approval of Record of Decision for the Final Environmental Impact Statement and Planning Guidelines

AGENCY: The Presidio Trust.

ACTION: Notice of Approval of Record of Decision.

SUMMARY: Pursuant to section 102(2)(C) of the National Environmental Policy Act of 1969 (Pub. L. 91-90 as amended), and the regulations promulgated by the Council on Environmental Quality (40 CFR 1505.2), the Presidio Trust (Trust) has prepared and approved a Record of Decision (ROD) for the Final Environmental Impact Statement and Planning Guidelines for New Development and Uses on 23 Acres within the Letterman Complex (FEIS), The Presidio of San Francisco, San Francisco, California (Presidio). The FEIS is a supplement to the 1994 Final General Management Plan Amendment (GMPA) EIS for the Presidio. The ROD documents the decision and rationale for selecting a development alternative for the 23-acre site in compliance with the mandates of the Presidio Trust Act and as guided by the GMPA. The ROD is a concise statement of the decision, alternatives considered, the nature of public involvement, and mitigating measures developed to avoid or minimize environmental impacts. Comments received on the FEIS and responses are also attached to the ROD.

DATES: The Trust has selected for implementation Alternative 5, the Digital Arts Center (identified as the proposed action in the FEIS), as the development alternative for the 23-acre site, and will implement the selected proposal as soon as practicable. This alternative and five other alternatives were fully examined in the Draft EIS that was publicly circulated and filed with the United States Environmental Protection Agency (EPA) on April 23, 1999 (64 FR 23296-97) and the FEIS that was publicly circulated and filed with the EPA on March 17, 2000 (65 FR 14558). The Presidio Trust Board of Directors reviewed and considered the ROD after an extended no-action period, and authorized the Trust's Executive Director to finalize and approve the ROD, which was signed on May 24, 2000.

MATERIALS AVAILABLE TO THE PUBLIC: The approved ROD is available for viewing on the Internet by clicking on “Library” and then “Postings” at the following website: http://www.presidiotrust.gov. Additionally, copies of the ROD are available by writing or calling: The Presidio Trust, P.O. Box 29052, San Francisco, CA 94129-0052, Phone: 415-561-5300; Fax: 415-561-5315.

The ROD is also available for review at:

The Presidio Trust Library, 34 Graham Street, San Francisco, CA 94129, Phone: 415-561-5300.

William Penn Mott, Jr. Visitor Center (Presidio) (open 7 days), Montgomery Street, Main Post, San Francisco, CA 94129, Phone: 415-561-4323.

GGNRA Park Headquarters, Building 201, Fort Mason, San Francisco, CA 94123, Phone: 415-561-4720.

San Francisco Main Library, Government Information Center, Civic Center, San Francisco, CA 94102, Phone: 415-557-4500.

San Francisco Library, Presidio Branch, 3150 Sacramento Street, San Francisco, CA 94115, Phone: 415-292-2155.

FOR FURTHER INFORMATION CONTACT: John Pelka, NEPA Compliance Coordinator, The Presidio Trust, 34 Graham Street, P.O. Box 29052, San Francisco, CA 94129-0052. Telephone 415-561-5300.

Dated: May 24, 2000.
Karen A. Cook,
General Counsel.

[FR Doc. 00-13508 Filed 5-30-00; 8:45 am]

BILLING CODE 4310-4R-U